DEPARTMENT OF LABOR

Wage and Hour Division

Proposed Extension of the Approval of Information Collection Requirements

AGENCY: Wage and Hour Division, Department of Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95). 44 U.S.C. 3056(c)(2)(A). This program helps to ensure that requested data can be provided in the desired format, reporting burden (time and financial resources) is minimized, collection instruments are clearly understood, and the impact of collection requirements on respondents can be properly assessed. Currently, the Wage and Hour Division is soliciting comments concerning its proposal to extend Office of Management and Budget (OMB) approval of the Information Collection: Notice to Examinee, Work Experience and Career Exploration (WECEP) Regulations, 29 CFR 570.35a. A copy of the proposed information request can be obtained by contacting the office listed below in the FOR FURTHER INFORMATION CONTACT section of this Notice.

DATES: Written comments must be submitted to the office listed in the ADDRESSES section below on or before October 24, 2011.

ADDRESSES: You may submit comments identified by Control Number 1235-0011, by either one of the following methods: E-mail: WHDPRAComments@dol.gov; Mail, Hand Delivery, Courier: Division of Regulation, Legislation, and Interpretation, Wage and Hour, U.S. Department of Labor, Room S-3502, 200 Constitution Avenue, NW., Washington, DC 20210. Instructions: Please submit one copy of your comments by only one method. All submissions received must include the agency name and Control Number identified above for this information collection. Because we continue to experience delays in receiving mail in the Washington, DC area, commenters are strongly encouraged to transmit their comments electronically via e-mail or to submit them by mail early. Comments, including any personal information provided, become a matter of public record. They will also be summarized and/or included in the request for OMB approval of the information collection request.

FOR FURTHER INFORMATION CONTACT: Mary Ziegler, Director, Division of Regulation, Legislation, and Interpretation, Wage and Hour, U.S. Department of Labor, Room S-3502, 200 Constitution Avenue, NW., Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

SUPPLEMENTARY INFORMATION:

I. Background

The Fair Labor Standards Act (FLSA) section 3(l), 29 U.S.C. 203(l) establishes a minimum age of 16 years for most nonagricultural employment but allows the employment of 14- and 15-year-olds in occupations other than manufacturing and mining or deemed hazardous, if the Secretary of Labor determines such employment is confined to (1) periods that will not interfere with the minor's schooling and (2) conditions that will not interfere with the minor's health and well-being. FLSA section 11(c), 29 U.S.C. 211(c), requires all employers covered by the FLSA to make, keep, and preserve records of their employees' wages, hours, and other conditions and practices of employment. Regulations issued by the Secretary of Labor prescribe the recordkeeping and reporting requirements for these records. Subpart C of Regulations 29 CFR Part 570—Child Labor Regulations, Orders, and Statements of Interpretation—sets forth the employment standards for 14- and 15-year-olds (CL Reg. 3). Regulations 29 CFR 570.35a contain the requirements and criteria for the employment of 14- and 15-year-olds in specific occupations pursuant to a school-supervised and school-administered WECEP under the conditions CL Reg. 3 otherwise prohibits. In order to utilize the CL Reg. 3 WECEP provisions, Regulations 29 CFR 570.35a(b)(2) requires a state educational agency to file an application for approval of a state WECEP program as one not interfering with schooling or with the health and well-being of the minors involved. Regulations 29 CFR 570.35a(b)(3)(vi) requires that a written training agreement be prepared for each student participating in a WECEP and that such agreement be signed by the teacher-coordinator, the employer, and the student. The regulation also requires the student's parent or guardian to sign or otherwise consent to the agreement in order for it to be valid. Regulations 29 CFR 570.35a(b)(4)(ii) requires state education agencies to keep a record of the names and addresses of each school enrolling WECEP students and the number of enrollees in each unit. The state or local educational agency office must keep a copy of the written training agreement for each student participating in the WECEP. The records and copies must be maintained for three (3) years from the date of each student's enrollment in the program. This information collection is currently approved for use through December 31, 2011.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The DOL seeks approval for the extension of this currently approved information collection in order to carry out its responsibility to ensure compliance with the youth employment provisions of the FLSA and its regulations. Without this information, the Administrator would have no means to determine if the proposed program meets the regulatory requirements.

Type of Review: Extension.

Agency: Wage and Hour Division.

Titles: Work Experience and Career Exploration Programs (WECEP) Regulations, 29 CFR 570.35a.

OMB Number: 1235-0011.

Affected Public: State, Local, or Tribal Government.

Frequency: Biennially.

Total Respondents: 37.

Total Annual Responses: 14,287.

Average Time per Response:

Reporting:

WECEP Application—2 hours.

Written Training Agreement—1 hour.

Recordkeeping:

WECEP Program Information—1 hour.

Filing of WECEP Record and Training Agreement—One-half minute.

Total Burden Hours: 14,145.

Total Burden Cost (capital/startup): $0.

Total Burden Cost (operating/maintenance): $3.29.

Dated: July 20, 2011.
Mary Ziegler,
Director, Division of Regulations, Legislation, and Interpretations.

[FR Doc. 2011-21529 Filed 8-22-11; 8:45 am]

BILLING CODE 4510-27-P